DEPARTMENT OF THE INTERIOR

Fish and Wildlife Service

[Docket No. FWS-HQ-IA-2023-0031; FF09S00000/XXX/FXSC42050900000/4205; OMB Control Number 1018—New]

Agency Information Collection Activities; Big Cat Public Safety Act Registration

AGENCY: Fish and Wildlife Service, Interior.

ACTION: Notice of information collection; request for comment.

SUMMARY: In accordance with the Paperwork Reduction Act of 1995, we, the U.S. Fish and Wildlife Service (Service), are proposing emergency clearance of a new collection of information.

DATES: Interested persons are invited to submit comments on or before May 19, 2023.

ADDRESSES: Send your comments on the information collection request (ICR) by one of the following methods (reference “1018-BCPSA Registration” in the subject line of your comment):

• Internet (preferred): https://www.regulations.gov. Follow the instructions for submitting comments on Docket No. FWS-HQ-IA-2023-0031.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: The Service intends to seek emergency clearance of a new information collection under the authority of 16 U.S.C. 3372(e), pursuant to the Big Cat Public Safety Act (BCPSA), Public Law 117-243, December 20, 2022, 136 Stat. 2336 (amending the Captive Wildlife Safety Act, and Lacey Act Amendments of 1981, 16 U.S.C. 3371-3374 and 3376, and 7 U.S.C. 1997). “Prohibited wildlife species” (also referred to as “big cats”) is defined as “any live species of lion, tiger, leopard, cheetah, jaguar, or cougar or any hybrid of such species” (16 U.S.C. 3371(h)). This includes any of the following species, or hybrids of any of these species: Lion (Panthera leo), tiger (Panthera tigris), leopard (Panthera pardus), snow leopard (Uncia uncia), clouded leopard (Neofelis nebulosa), jaguar (Panthera onca), cheetah (Acinonyx jubatus), cougar (Puma concolor) (50 CFR 14.252).

The BCPSA makes it unlawful for any person to—(A) import, export, transport, sell, receive, acquire, or purchase in interstate or foreign commerce, or in a manner substantially affecting interstate or foreign commerce, or (B) breed or possess any live prohibited wildlife species (16 U.S.C. 3372(e)(1)). The BCPSA also makes it unlawful for any person to attempt to commit any of these acts with prohibited wildlife species (16 U.S.C. 3372(a)(4)). Violators of the BCPSA are subject to civil and criminal penalties (16 U.S.C. 3373), and big cats bred, possessed, imported, exported, transported, sold, received, acquired, or purchased contrary to the provisions of the BCPSA shall be subject to forfeiture to the United States (16 U.S.C. 3374).

The BCPSA also authorizes a limited exception from the prohibition on possession for a person or entity to register live specimens of prohibited wildlife species if certain requirements are met and continue to be met (16 U.S.C. 3372(e)(2)(E)). The exception is intended to allow current owners of big cats at the time of enactment of the BCPSA to keep their big cats; however, they must register with the Service; are not allowed to breed, acquire, or sell big cats; and cannot allow direct contact between the public and their big cats (H. Rept. No. 117-428, p. 17 (July 22, 2022)). By registering their big cats no later than the statutory deadline (June 18, 2023), the person or entity (registrant) may continue to possess registered big cats that were born before the date of enactment (December 20, 2022) and legally in their possession on or before the date of enactment, as long as the registrant meets and continues to meet all requirements of 16 U.S.C. 3372(e)(2)(E).

To qualify to continue to possess live specimens of prohibited wildlife species (also referred to as “big cats”) under 16 U.S.C. 3372(e)(2)(E), a registrant must register all live specimens of prohibited wildlife species in their possession with the United States Fish and Wildlife Service no later than June 18, 2023. The purpose of the registration form is to enable owners of big cats who want to continue to possess their big cats in accordance with 16 U.S.C. 3372(e)(2)(E) to register all live specimens of big cats in their possession with the Service no later than June 18, 2023. The Service will use the information collected to verify eligibility to possess big cats under the BCPSA in accordance with 16 U.S.C. 3372(e)(2)(E).

Big cats bred or possessed in violation of the BCPSA and any big cat that is not registered on or before June 18, 2023, shall be subject to forfeiture for violation of the BCPSA prohibition on possession, unless another limited exception applies in accordance with the BCPSA. (16 U.S.C. 3372(e)(2)(A)-(D), 3374(a)). These other exceptions apply only to qualifying entities exhibiting big cats to the public under a Class C license from the Department of Agriculture, or a Federal facility registered with the Department of Agriculture that exhibits animals; State colleges, State universities, State agencies, or State-licensed veterinarians; qualifying wildlife sanctuaries; or qualifying transporters only when in custody of any big cat solely for the purpose of expeditiously transporting the big cat to a person who qualifies for an exception under the BCPSA.

To meet the requirements for an exception from the prohibition on possession under 16 U.S.C. 3372(e)(2)(E), the registrant must:

• Register each individual big cat in their possession with the U.S. Fish and Wildlife Service by no later than 180 days after the date of enactment of the BCPSA, December 20, 2022 (i.e., no later than June 18, 2023) (16 U.S.C. 3372(e)(2)(E)(i));

• Not breed, acquire, or sell any big cat after the date of the enactment of the BCPSA, December 20, 2022 (The requirement that the registrant not breed, acquire, or sell any prohibited wildlife species after December 20, 2022, applies regardless of whether the activity is intrastate, interstate, or international) (16 U.S.C. 3372(e)(2)(E)(ii)); and

• Not allow direct contact between the public and any big cat after the date of the enactment of the BCPSA, December 20, 2022 (16 U.S.C. 3372(e)(2)(E)(iii).

To meet the requirements under 16 U.S.C. 3372(e)(2)(E), the big cat(s) in the registrant's possession must:

• Have been born before the date of enactment of the BCPSA, December 20, 2022 (16 U.S.C. 3372(e)(2)(E));

• Not have been acquired by the registrant after the date of enactment, December 20, 2022 (i.e., legally in the registrant's possession on or before December 20, 2022, and have remained continually in the registrant's possession) (16 U.S.C. 3372(e)(2)(E)(ii)); and

• Have been registered by the owner with the U.S. Fish and Wildlife Service by no later than 180 days after the date of enactment of the BCPSA, December 20, 2022 (i.e., no later than June 18, 2023) (16 U.S.C. 3372(e)(2)(E)(i)).

The Service recognizes that there may have been big cats bred before the effective date of the BCPSA, that were subsequently born on or after the effective date of the BCPSA. The text of the BCPSA only allows big cats born before the effective date of the BCPSA to be registered under 16 U.S.C. 3372(e)(2)(E). If a big cat is not registered, then it may not be possessed by its owner under the limited exception of 16 U.S.C. 3372(e)(2)(E); and, if each big cat owned by a registrant is not registered by the statutory deadline (i.e., no later than June 18, 2023), then the registrant does not qualify to possess any of their big cats under 16 U.S.C. 3372(e)(2)(E). However, the BCPSA does not specifically address big cats born on or after the effective date of the BCPSA from breeding that occurred before the effective date of the BCPSA. As noted above, the exception is intended to allow current owners of big cats to keep big cats that were legally in their possession at the time of enactment of the BCPSA, if they register their big cats and comply with the BCPSA, including by not breeding any big cats on or after the effective date of the BCPSA. (H. Rept. No. 117-428, p. 17 (July 22, 2022).) The BCPSA was not intended to retroactively prohibit breeding that occurred before the enactment of the BCPSA. Recognizing these intentions, and to avoid a reading of the BCPSA that would lead to an impossibility for some current owners of big cats both to comply with the law and possess big cats that are born on or after the effective date of the BCPSA from breeding that occurred before the effective date of the BCPSA, such big cats will be considered eligible for registration. In addition to meeting all the other requirements above, such big cats may be registered if the registrant includes documentation demonstrating that the breeding of the big cat occurred before December 20, 2022 (the effective date of the BCPSA). The gestation period for all big cats is substantially less than the 180-day registration period provided in the BCPSA, meaning that any owners of big cats that are affected still must meet the statutory deadline to register (June 18, 2023). Accordingly, except as provided by the BCPSA (16 U.S.C. 3372(e)(2)(A)-(D)), possession of any big cat born on or after December 20, 2022, violates the BCPSA, unless: documentation is provided to prove the big cat was born on or after December 20, 2022, from breeding that occurred before December 20, 2022, and all other registration requirements of 16 U.S.C. 3372(e)(2)(E) are met as described above.

It remains the responsibility of registrants to follow all local, State, and Federal laws and regulations for possession of and other activities with prohibited wildlife species, and registration under the BCPSA does not constitute authorization to engage in any activity prohibited by such laws and regulations. For example, most big cats are listed as either endangered or threatened under the Endangered Species Act and take of such species and their offspring is prohibited, with limited exceptions for take authorized by statute, regulation, or permit (16 U.S.C. 1531 et seq.; 50 CFR part 17).

To comply with the requirements of the BCPSA, the Service will seek OMB approval of FWS Form 3-200-11, “Registration Form—Big Cat Public Safety Act (Pub. L. 117-243, December 20, 2022, 136 Stat 2336), which will collect the following information:

• Name, birth date, and contact information of individual applicant;

• Name, tax ID number, and contact information of business, corporation, or trust, if applicable;

• Information for officer of business, corporation, or trust, if applicable;

• Detailed information for big cats possessed (not including hybrids), to include:

—Common name of big cat;

—Name given to individual big cat, if applicable,

—Genus, species, and subspecies;

—Birthdate and date of acquisition, including supporting documentation;

—Unique identifier information (i.e., microchip or tattoo);

—Sex;

—Description (e.g., eye color, scars, ear tags);

—Photographs of big cat

—Physical location of individual big cat (if different from registrant's contact information);

—Protocols taken to prevent breeding;

—Protocols taken to prevent direct contact between public and prohibited wildlife species; and

—Copies of all local, State, or Federal licenses held in relation to the big cats, if applicable.

• Detailed information for hybrid big cats possessed, to include:

—Name of hybrid big cat;

—Name given to individual big cat, if applicable,

—Genus, species, and subspecies;

—Birthdate and date of acquisition, including supporting documentation;

—Unique identifier information (e.g., microchip or tattoo);

—Sex;

—Description (e.g., eye color, scars, ear tags);

—Photographs of big cat

—Physical location of big cat (if different from registrant's contact information);

—Protocols taken to prevent breeding;

—Protocols taken to prevent direct contact between public and prohibited wildlife species; and

—Copies of all local, State, or Federal licenses held in relation to the big cats, if applicable.

• Information collected to amend original registration, to include:

—Genus, species, subspecies, name of big cat, and unique identifier;

—Information for new location when individual big cat is relocated after registration;

—Description of any changes in protocols to prevent breeding as previously described in original registration;

—Description of any changes in protocols to prevent direct contact between the public and the prohibited wildlife as previously described in original registration;

—Change in unique identifier (i.e., microchip or tattoo);

—Contact information for new owner;

—Notification of big cat's death, to include date; and

—The manner of disposal of big cat's remains (requires documentation from veterinarian or other authority describing cause of death and how the remains were disposed).

A copy of FWS Form 3-200-11 is available to the public by submitting a request to the Service Information Collection Clearance Officer using one of the methods identified in the ADDRESSES section of this notice.

Title of Collection: Big Cat Public Safety Act Registration.

OMB Control Number: 1018—New.

Form Number: 3-200-11.

Type of Review: Emergency clearance of a new collection of information.

Respondents/Affected Public: Individuals and private sector.

Respondent's Obligation: Voluntary.

Frequency of Collection: On occasion.

Total Estimated Annual Nonhour Burden Cost: None.

Requirement | Average number of annual respondents | Average number of responses each | Average number of annual responses | Average completion time per response | Estimated annual burden hours
Initial Registration (Form 3-200-11):
Individuals | 2,000 | 1.25 | 2,500 | 1 | 2,500
Private Sector | 2,000 | 1.25 | 2,500 | 1 | 2,500
Amendments (Form 3-200-11):
Individuals | 250 | 1 | 250 | 0.2 | 50
Private Sector | 250 | 1 | 250 | 0.2 | 50
Totals | 4,500 |  | 5,500 |  | 5,500

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-05590 Filed 3-17-23; 8:45 am]

BILLING CODE 4333-15-P